DEPARTMENT OF DEFENSE

Department of the Army, Corps of Engineers

Notice of Intent To Prepare a Joint Supplemental Environmental Impact Statement (SEIS)/Supplemental Environmental Impact Report (SEIR) for the Llagas Creek Flood Control Project

AGENCY: U.S. Army Corps of Engineers, DOD.

ACTION: Notice of intent.

SUMMARY: The U.S. Army Corps of Engineers San Francisco District (Corps) in coordination with the Santa Clara Valley Water District (SCVWD) is preparing a joint Supplemental Environmental Impact Statement (SEIS)/Supplemental Environmental Impact Report (SEIR) for the Llagas Creek Flood Control Project. This project will provide flood protection for residential, commercial, and agricultural developments in southern Santa Clara County, to protect and improve water quality in the watershed and to preserve and enhance the rivers's habitat, fisheries, and wildlife.

FOR FURTHER INFORMATION CONTACT: Mr. Christopher K. Eng either by telephone at (415) 977-8543, by fax at (415) 977-8695, by e-mail: ceng@spd.usace.army.mil, or by mail at the address below.

SUPPLEMENTARY INFORMATION: The SEIS/SEIR will supplement the original Llagas Creek Watershed Final EIS/EIR that was released in 1982 by the NRCS (Natural Resources Conservation Service formerly the Soil Conservations Service) and the SCVWD to examine the potential environmental impacts of the original Llagas Creek Flood Control Project. The original Llagas Creek Project was implemented in 1969 by the United States Department of Agriculture (USDA) pursuant to the Watershed Protection and Flood Prevention Act of 1954 (Pub. L. 83-566). To date, the NRCS has completed about half of the authorized project on the lower Reaches of Llagas Creek. Congress, in the House Report to the 1998 Energy and Water Development Appropriations Act (HR 105-190, July 1997), urged the Corps to develop plans and specifications of the authorized Llagas Creek project, in anticipation of the Corps assuming the construction of the remaining project elements. The Water Resources and Development Act (WRDA) of 1999 (Pub. L. 106-53) authorized the Corps to complete the remaining upper reaches of the project “substantially in accordance with the NRCS watershed plan for the Llagas Creek.” The SEIS/SEIR will address the environmental impacts of two alternatives, those being the proposed action and the no action (or no project) alternative, and will focus on changes to environmental setting and conditions, regulatory context and/or new information that has become available since release of the final SEIS/EIR. The project area extends approximately 12.3 miles along the upper reaches of Llagas Creek from the Pajaro River south of Bloomfield Road upstream to just beyond Wright Avenue. The proposed alternative would provide a 100-year level of flood protection in the urban areas of Morgan Hill and Gilroy, and an approximately 10-year level of flood protection in the agricultural areas. In addition, the proposed alternative would provide channel stabilization measures, thus reducing erosion and sedimentation. Structural measures would include the replacement of more than 35 bridges and culverts at road crossings. Potential impacts of the proposed action and no action alternatives that may be examined by the SEIS/SEIR include impacts to water resources, geology and soils, biological resources, environmental justice and socioeconomics.

Scoping: Federal, state and local agencies, and interested individuals are encouraged to participate in the SEIS/SEIR scoping process to assist the Corps and SCVWD in determining the range of issues and alternatives to be addressed. Public meetings and workshops will be held in Morgan Hill, CA. Dates, times and locations will be published in the newspaper and provide by mail to all those requesting notification. At these meetings, Corps and SCVWD representatives will briefly summarize the description of the proposed project, the environmental impact assessment process, and will then solicit public comments. Attendees will be invited to submit written comments about the proposed alternatives and “no project” alternative either at the meeting, or following the meeting by fax, e-mail or by mail. The Draft SEIS/SEIR is expected to be published in early September 2002, and a public hearing to receive comments on the Draft SEIS/SEIR will be held after it is published. Comments, suggestions, and requests to be placed on the mailing list for announcements and for the Draft SEIS/SEIR, should be sent to Mr. Christopher K. Eng, U.S. Army Corps of Engineers, San Francisco District, 333 Market Street, 7th floor (CESPN-ET-PP), San Francisco, California, 94105-2197.

Luz D. Ortiz,
Army Federal Register Liaison Officer.

[FR Doc. 01-19758 Filed 8-6-01; 8:45 am]

BILLING CODE 3710-19-M